DEPARTMENT OF JUSTICE

Executive Office for Immigration Review

Agency Information Collection Activities; Revision of a Currently Approved Collection; Comments Request

ACTION: 60-day notice of information collection under review; Revision of a currently approved collection; Alien's change of address form, 33/BIA Board of Immigration Appeals, 33/IC Immigration Court.

The Department of Justice (DOJ), Executive Office for Immigration Review (EOIR) has submitted the following information collection request to the Office of Management and Budget (OMB) for review and approval in accordance with the Paperwork Reduction Act of 1995. The proposed information collection is published to obtain comments from the public and affected agencies. Comments are encouraged and will be accepted for “sixty days” until June 11, 2002. This process is conducted in accordance with 5 CFR 1320.10.

If you have comments especially on the estimated burden or associated response time, suggestions, or need a copy of the proposed information collection instrument with instructions or additional information, please contact: Charles Adkins-Blanch, 5107 Leesburg Pike, Suite 2600, Falls Church, Virginia, 22041.

Written comments and suggestions from the public and affected agencies concerning the revision of a currently approved collection are encouraged. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, technical, or other technological collection techniques or other forms of information technology, e.g., permitting electronic submission of responses.

Overview of This Information Collection

(a) Type of Information Collection: Revision of a Currently Approved Collection.

(2) Title of the Form: Alien's Change of Address Form: 33/BIA Board of Immigration Appeals and 33/IC Immigration Court.

(3) Agency form number, if any, and the applicable component of the Department of Justice Sponsoring the collection: Form EOIR 33/BIA, EOIR 33/IC, Executive Office for Immigration Review, United States Department of Justice.

(4) Affected public who will be asked to respond, as well as a brief abstract: Primary: An alien whose immigration proceedings is statutorily required to report any change of address.

Other: None Abstract: The information on the change of address form is used by the Immigration Courts and the Board of Immigration Appeals to ascertain where to send the notice of the next administrative action or notice of any decisions which have been rendered in an alien's case.

(5) An estimate of the total number of respondents and the amount of time estimated for an average respondent to respond: 15,000 responses are estimated annually with an average of 15 minutes per response.

(6) An estimate of the total public burden (in hours) associated with the collection: 3,750 hours annually.

If additional information is required, contact: Mr. Robert B. Briggs, Clearance Officer, United States Department of Justice, Information Management and Security Staff, Justice Management Division, United States Department of Justice, Patrick Henry Building, Suite 1600, 601 D Street, NW., Washington, DC 20530.

Dated: April 8, 2002.
Robert Briggs,
Department Clearance Officer, United States Department of Justice.

[FR Doc. 02-8896 Filed 4-11-02; 8:45 am]

BILLING CODE 4410-30-M